DEPARTMENT OF THE INTERIOR

Bureau of Land Management

[14XL LLIDB00100 LF1000000.HT0000 LXSS020D0000 241A 4500059789]

Notice of Intent To Amend the 1999 Owyhee Resource Management Plan and Prepare an Associated Environmental Assessment, Idaho

AGENCY: Bureau of Land Management, Interior.

ACTION: Notice of intent.

SUMMARY: In compliance with the National Environmental Policy Act of 1969, as amended (NEPA), and the Federal Land Policy and Management Act of 1976, as amended, the Bureau of Land Management (BLM) Owyhee Field Office, Marsing, Idaho, intends to prepare a Resource Management Plan (RMP) amendment with an associated Environmental Assessment (EA) for the Owyhee Field Office. This notice announces the beginning of the scoping process to solicit public comments and identify issues.

DATES: Comments on issues may be submitted in writing until August 15, 2014. The date(s) and location(s) of any scoping meetings will be announced at least 15 days in advance through local news media, newspapers, and the BLM Web site at: http://www.blm.gov/id. In order to be included in the analysis, all comments must be received prior to the close of the 30-day scoping period or 15 days after the last public meeting, whichever is later. We will provide additional opportunities for public participation as appropriate.

ADDRESSES: You may submit comments on issues and planning criteria related to Owyhee RMP amendment/EA by any of the following methods:

• Web site: http://www.blm.gov/id/st/en/prog/nepa_register/rmp_amendment__proposed.html.

• Email: BLM_ID_BD_OwyheeRMPAmend@blm.gov.

• Fax: 208-384-3326.

• Mail: BLM Boise District Office, 3948 Development Avenue, Boise, Idaho 83705.

Documents pertinent to this proposal may be examined at the Owyhee Field Office, 20 First Avenue West, Marsing, ID 83639, or at the BLM Boise District Office, at the above address.

FOR FURTHER INFORMATION CONTACT: John Sullivan, Supervisory Resource Management Specialist; telephone 208-384-3338, BLM Boise District Office, at the above address; or email BLM_ID_BD_OwyheeRMPAmend@blm.gov. Contact Mr. Sullivan to have your name added to our mailing list. Persons who use a telecommunications device for the deaf (TDD) may call the Federal Information Relay Service (FIRS) at 1-800-877-8339 to contact Mr. Sullivan during normal business hours. The FIRS is available 24 hours a day, 7 days a week, to leave a message or question for Mr. Sullivan. You will receive a reply during normal business hours.

SUPPLEMENTARY INFORMATION: This document provides notice that the BLM Owyhee Field Office, Marsing, Idaho, intends to prepare an RMP amendment with an associated EA for the Owyhee Field Office, announces the beginning of the scoping process, and seeks public input on issues and planning criteria. The planning area is located in Owyhee County and encompasses approximately 1,320,000 acres of public land; however, this plan amendment is only intended to address the land-tenure classification of 560.62 acres. The purpose of the public-scoping process is to determine relevant issues that will influence the scope of the environmental analysis, including alternatives, and guide the planning process. Preliminary issues for the plan amendment area have been identified by BLM personnel; Federal, State, and local agencies; and other stakeholders. The issue involves a change in the land-tenure classification for 560.62 acres of public land, described as the NW¼ and SW¼ of Section 15, the N½N½ of Section 21, and the N½NW¼ of Section 22, all in T. 7 S., R. 3 W, Boise Meridian, Owyhee County, Idaho. The above-described public land is currently located in Land Tenure Zone 1 (retain lands in public ownership). This land-tenure classification would be changed to Land Tenure Zone 3 (lands available for disposal, excluding sale). This proposed change in land-tenure classification would allow the above-described lands to be considered along with approximately 33,400 additional acres of Federal public land in a proposed land exchange with the Idaho Department of Lands for up to 38,444 acres of State land. Under Federal regulations, a land exchange may occur only when it is determined to be in the public interest. When considering the public interest the BLM gives full consideration to the opportunity to achieve better management of Federal lands, to meet the needs of State and local residents and their economies, and to secure other important objectives. Acquisition of lands of higher environmental values may represent the mitigation for the transfer of lands out of Federal ownership. Land exchanges are designed to be for equal monetary value and the acreage amounts of Federal and state land may be adjusted after appraisals are completed.

Preliminary planning criteria include directions and requirements found in (1) The Omnibus Public Land Management Act of 2009; (2) The Federal Land Policy and Management Act of 1976; (3) The National Environmental Policy Act of 1969; (4) The 1999 Owyhee Resource Management Plan; and (5) BLM policy manuals 1601 (Land Use Planning) and 2200 (Land Exchanges). The proposed land exchange would be completed subject to Federal regulatory requirements found at 43 CFR 2200, which include public notice and an opportunity to comment.

You may submit comments on issues and planning criteria in writing to the BLM at any public-scoping meeting, or you may submit them to the BLM using one of the methods listed in the ADDRESSES section above. To be most helpful, you should submit comments by the close of the 30-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP/Draft EA as to why an issue was placed in category two or three. The public is also encouraged to help identify any management questions and concerns that should be addressed in the plan. The BLM will work collaboratively with interested parties to identify the management decisions that are best suited to local, regional, and national needs and concerns.

The BLM will use an interdisciplinary approach to develop the plan amendment and EA in order to consider the variety of resource issues and concerns identified. Specialists with expertise in the following disciplines will be involved in the plan amendment and development of the associated EA: Rangeland management, geology, soils, wildlife and fisheries, archaeology, outdoor recreation, and realty.

Authority: 40 CFR 1501.7 and 43 CFR 1610.2.

Timothy M. Murphy,
Acting BLM Idaho State Director.

[FR Doc. 2014-16225 Filed 7-15-14; 8:45 am]

BILLING CODE 4310-GG-P